NUCLEAR REGULATORY COMMISSION

[NRC-2014-0001]

Sunshine Act Meeting Notice

DATE: December 15, 22, 29, 2014; January 5, 12, 19, 26 2015.

PLACE: Commissioners' Conference Room, 11555 Rockville Pike, Rockville, Maryland.

STATUS: Public.

Week of December 15, 2014

Friday, December 19, 2014

10:55 a.m. Affirmation Session (Public Meeting) (Tentative)

Florida Power & Light Co. (St. Lucie Plant, Unit 2) (Tentative)

* * * * *

Week of December 22, 2014

There are no meetings scheduled for the week of December 22, 2014.

Week of December 29, 2014—Tentative

There are no meetings scheduled for the week of December 29, 2014.

Week of January 5, 2015—Tentative

There are no meetings scheduled for the week of January 5, 2015.

Week of January 12, 2015—Tentative

There are no meetings scheduled for the week of January 12, 2015.

Week of January 19, 2015—Tentative

There are no meetings scheduled for the week of January 19, 2015.

Week of January 26, 2015—Tentative

Thursday, January 29, 2015

9:00 a.m. Briefing on Foreign Ownership, Control, and Domination (Public Meeting)

(Contact: Shawn Harwell, 301-415-1309)

This meeting will be Webcast live at the Web address— http://www.nrc.gov/.

* * * * *

The schedule for Commission meetings is subject to change on short notice. For more information or to verify the status of meetings, contact Glenn Ellmers at (301) 415-0442 or via email at Glenn.Ellmers@nrc.gov.

* * * * *

Additional Information

By a vote of 5-0 on December 18, 2014, the Commission determined pursuant to U.S.C. 552b(e) and '9.107(a) of the Commission's rules that the above referenced Affirmation Session be held with less than one week notice to the public. The meeting is scheduled on December 19, 2014.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Kimberly Meyer, NRC Disability Program Manager, at 301-287-0727, by videophone at 240-428-3217, or by email at Kimberly.Meyer-Chambers@nrc.gov. Determinations on requests for reasonable accommodation will be made on a case-by-case basis.

* * * * *

Members of the public may request to receive this information electronically. If you would like to be added to the distribution, please contact the Office of the Secretary, Washington, DC 20555 (301-415-1969), or send an email to Patricia.Jimenez@nrc.gov or Brenda.Akstulewicz@nrc.gov

Dated: December 18, 2014
Glenn Ellmers,
Policy Coordinator, Office of the Secretary.

[FR Doc. 2014-30064 Filed 12-18-14; 4:15 pm]

BILLING CODE 7590-01-P